DEPARTMENT OF DEFENSE

GENERAL SERVICES ADMINISTRATION

NATIONAL AERONAUTICS AND SPACE ADMINISTRATION

[OMB Control No. 9000-0113; Docket 2011-0079; Sequence 5]

Federal Acquisition Regulation; Submission for OMB Review; Acquisition of Helium

AGENCY: Department of Defense (DOD), General Services Administration (GSA), and National Aeronautics and Space Administration (NASA).

ACTION: Notice of request for comments regarding an extension to an existing OMB clearance.

SUMMARY: Under the provisions of the Paperwork Reduction Act (44 U.S.C. chapter 35), the Regulatory Secretariat (MVCB) will be submitting to the Office of Management and Budget (OMB) a request to review and approve an extension of a previously approved information collection requirement concerning acquisition of helium.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before June 24, 2011.

ADDRESSES: Submit comments identified by Information Collection 9000-0113, Acquisition of Helium, by any of the following methods:

• Regulations.gov: http://www.regulations.gov.

Submit comments via the Federal eRulemaking portal by inputting “Information Collection 9000-0113, Acquisition of Helium”, under the heading “Enter Keyword or ID” and selecting “Search”. Select the link “Submit a Comment” that corresponds with “Information Collection 9000-0113, Acquisition of Helium”. Follow the instructions provided at the “Submit a Comment” screen. Please include your name, company name (if any), and “Information Collection 9000-0113, Acquisition of Helium”, on your attached document.

• Fax: 202-501-4067.

• Mail: General Services Administration, Regulatory Secretariat (MVCB), 1275 First Street, NE., Washington, DC 20417. ATTN: Hada Flowers/IC 9000-0113, Acquisition of Helium.

Instructions: Please submit comments only and cite Information Collection 9000-0113, Acquisition of Helium, in all correspondence related to this collection. All comments received will be posted without change to http://www.regulations.gov, including any personal and/or business confidential information provided.

FOR FURTHER INFORMATION CONTACT: Ms. Deborah Lague, Procurement Analyst, Office of Governmentwide Acquisition Policy, GSA (202) 694-8149 or deborah.lague@gsa.gov.

SUPPLEMENTARY INFORMATION:

A. Purpose

The Helium Act (Pub. L. 86-777) (50 U.S.C. 167a, et seq.) and the Department of the Interior's implementing regulations (30 CFR parts 601 and 602) require Federal agencies to procure all major helium requirements from the Bureau of Land Management, Department of the Interior.

The FAR requires that the Contractor provide to the Contracting Officer the following data within 10 days after the Contractor or subcontractor receives a delivery of helium from a Federal helium supplier; (i) The name of the supplier; (ii) The amount of helium purchased; (iii) The delivery date(s); and (iv) The location where the helium was used. Such information will facilitate enforcement of the requirements of the Helium Act and the contractual provisions requiring the use of Government helium by agency contractors.

The information is used in administration of certain Federal contracts to ensure contractor compliance with contract clauses. Without the information, the required use of Government helium cannot be monitored and enforced effectively.

One comment was received in regards to this collection. The commenter indicated that the FAR was misquoted. The team concurs. The FAR requires that the contractor provide helium purchase information 10 days after delivery from a federal helium supplier, not for the contractor to forecast what they are going to purchase. No changes to the FAR are necessary.

B. Annual Reporting Burden

Respondents: 26.

Responses per Respondent: 1.

Total Responses: 26.

Hours per Response: 1.

Total Burden Hours: 26.

Obtaining Copies of Proposals: Requesters may obtain a copy of the information collection documents from the General Services Administration, Regulatory Secretariat (MVCB), 1275 First Street, NE., Washington, DC 20417, telephone (202) 501-4755. Please cite OMB Control No. 9000-0113, Acquisition of Helium, in all correspondence.

Dated: May 19, 2011.
Millisa Gary,
Acting Director, Office of Governmentwide Acquisition Policy.

[FR Doc. 2011-12931 Filed 5-24-11; 8:45 am]

BILLING CODE 6820-EP-P